DEPARTMENT OF HOMELAND SECURITY

Office of the Secretary

[Docket No. DHS-2011-0045]

Privacy Act of 1974; Department of Homeland Security/Federal Emergency Management Agency—001 National Emergency Family Registry and Locator System of Records

AGENCY: Privacy Office, DHS.

ACTION: Notice of Privacy Act system of records.

SUMMARY: In accordance with the Privacy Act of 1974, the Department of Homeland Security proposes to update and reissue a current Department of Homeland Security system of records titled, “Department of Homeland Security/Federal Emergency Management Agency—001 National Emergency Family Registry and Locator System of Records.” This system of records allows the Department of Homeland Security/Federal Emergency Management Agency to collect and maintain records on adults displaced from their homes or pre-disaster location after a Presidentially-declared emergency or disaster. This system of records has been updated to include Law Enforcement Officials in categories of records, individuals, routine uses, and record source categories. This updated system will be included in the Department of Homeland Security's inventory of record systems.

DATES: Submit comments on or before September 29, 2011. This new system will be effective September 29, 2011.

ADDRESSES: You may submit comments, identified by docket number DHS-2011-0045 by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions please contact: Dr. Lesia Banks, (202-212-4491), Acting Privacy Officer, Federal Emergency Management Agency, 500 C Street, NW., Washington, DC 20475. For privacy issues please contact: Mary Ellen Callahan (703-235-0780), Chief Privacy Officer, Privacy Office, Department of Homeland Security, Washington, DC 20528.

SUPPLEMENTARY INFORMATION:

I. Background

In accordance with the Privacy Act of 1974, 5 U.S.C. 552a, the Department of Homeland Security (DHS) Federal Emergency Management Agency (FEMA) proposes to update and reissue a current DHS/FEMA system of records titled, “DHS/FEMA-001 National Emergency Family Registry and Locator (NEFRLS) System of Records,” 74 FR 48767, September 29, 2009.

The DHS/FEMA NEFRLS System of Records collects information from Law Enforcement Officials (LEOs) for the purpose of responding to a Missing Persons Report. The information collected from LEOs is to facilitate identity verification and their status as a member of law enforcement.

During Hurricane Katrina, displaced individuals experienced numerous difficulties in reuniting with family members after the disaster. As a result, Congress mandated in Section 689c of the Post-Katrina Emergency Management Reform Act (PKEMRA) of 2006, Public Law 109-295, that FEMA establish NEFRLS. FEMA has the discretionary authority to activate NEFRLS to help reunify families separated after an emergency or disaster declared by the President as defined in the Robert T. Stafford Disaster Relief and Emergency Assistance Act, 42 U.S.C. 5121-5207.

The collection of a LEO's indentifying information increased the amount of identifying information collected and maintained by the DHS/FEMA-001 NEFRLS System of Records. Information collected is stored on FEMA secured servers, and/or stored in locked cabinets with secured facility access controls.

Previously, the DHS/FEMA-001 NEFRLS System of Records only allowed two groups of individuals limited access. The groups were: (1) Registrants: displaced individuals registered in the system; and (2) searchers: individuals who are searching for family or household members who registered in the system. The DHS/FEMA-001 NEFRLS System of Records now allows FEMA NEFRLS Administrators to have limited access to records for the purpose of sharing registrants' information with LEOs pursuant to an official missing persons report. This increases the likelihood of reunifying family and friends displaced by a Presidentially-declared emergency or disaster.

The following categories are being updated: Categories of individuals is updated to clarify and specifically include LEOs; Categories of Records is updated to include LEO indentifying information (such as Badge Number) and LEO verification indicators; Routine Uses is updated to clearly identify sharing with Federal, state, local, tribal, territorial, international, or foreign LEOs; and Records Source Categories is updated to include LEOs as a source.

This updated system will be included in DHS's inventory of record systems.

II. Privacy Act

The Privacy Act embodies fair information practice principles in a statutory framework governing the means by which the U.S. Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass U.S. citizens and lawful permanent residents. As a matter of policy, DHS extends administrative Privacy Act protections to all individuals where systems of records maintain information on U.S. citizens, lawful permanent residents, and visitors.

Below is the description of the DHS/FEMA-001 NEFRLS System of Records.

In accordance with 5 U.S.C. 552a(r), DHS has provided a report of this system of records to the Office of Management and Budget and to Congress.

SYSTEM OF RECORDS

DHS/FEMA-001

System name:

DHS/FEMA-001 National Emergency Family Registry and Locator System (NEFRLS) System of Records.

Security classification:

Unclassified.

System location:

Records are maintained at FEMA Headquarters in Washington, DC and field offices.

Categories of individuals covered by the system:

Registrants (adult individual(s)) who have been displaced by a Presidentially-declared disaster or emergency and who voluntarily register in NEFRLS; family or household members who are travelling with the registrant or who lived in the pre-disaster residence immediately preceding the disaster; and searchers who are searching for missing family or household members.

Searchers are permitted to view personal information and/or messages of certain registrant(s) upon designation by the registrant(s).

Federal, state, local, tribal, territorial, international, or foreign Law Enforcement Officials (LEOs) that are searching for missing persons that may have been displaced by a Presidentially-declared disaster or emergency pursuant to an Official Missing Persons Report.

Categories of records in the system:

Information about the individual registering in NEFRLS as a registrant consists of:

• Authenticated Individual's Full Name;

• Date of Birth;

• Gender;

• Current Phone;

• Alternate Phone;

• Current Address;

• Pre-Disaster Address;

• Name and Type of Current Location; (i.e. shelter, hotel, or family/friend's home);

• Traveling with Pets (Yes or No);

• Identity Authentication Approval or Nonapproval (the fact of the authentication is maintained, but the answers to the questions provided to the third party organization are not maintained by DHS/FEMA);

• System Specific Username and Password; and

• Personal Message (may consist of up to 300 characters intended for designated family or household members to read).

Information about the family/household members traveling with the registrant in NEFRLS consists of:

• Family/Household Members' Full Name;

• Gender;

• Current Phone;

• Alternate Phone;

• Current Address;

• Pre-Disaster address;

• Name and type of current location; (i.e., shelter, hotel, or family/friend's home);

• Traveling with Pets (Yes or No);

• Personal Message: (may consist of up to 300 characters for listed, designated family, or household members to read.)

Information about the individual searching NEFRLS for a registrant or family/household member (searcher) consists of:

• Searching Individual's Full Name;

• Permanent Address;

• Phone;

• Alternate Phone;

• E-mail;

• Date of Birth;

• Identity Authentication Approval or Nonapproval (the fact of the authentication is maintained, but the answers to the questions provided to the third party organization are not maintained by DHS/FEMA); and

• System Specific Username and Password.

Information about a LEO collected by a FEMA NEFRLS Administrator for verification and status:

• Law Enforcement Official's Title;

• First Name;

• Last Name;

• Gender;

• Badge number/Law Enforcement License ID Number;

• Agency Name;

• City;

• County/Parish;

• State;

• Zip Code;

• Contact Phone;

• Contact E-mail;

• Supervisor Name;

• Supervisor Contact Number;

• Supervisor Contact E-mail;

• Agency City;

• Agency County/Parish;

• Agency State; and

• Verification Data. The verification process below indicates that there is a confirmed box to be checked for successful verification.

Authority for maintenance of the system:

Section 689c of the Post-Katrina Emergency Management Reform Act of 2006, Public Law 109-295 and the Robert T. Stafford Disaster Relief and Emergency Assistance Act, as amended, 42 U.S.C. 5121-5207.

Purpose(s):

The purpose of this system is to reunify families and household members following a Presidentially-declared disaster or emergency. To families using NEFRLS, the registrant, and searcher must acknowledge that the information in NEFRLS may be disclosed to searchers upon request, to Federal, state, local, tribal, territorial, international, or foreign agencies including LEO as well as voluntary agencies.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including U.S. Attorney Offices, or other Federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The U.S. or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration (NARA) or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, state, local, tribal, territorial, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To appropriate authorized Federal, state, local, tribal, territorial, international, or foreign law enforcement officers charged with investigating the whereabouts or locating missing persons.

I. To the National Center for Missing and Exploited Children and voluntary organizations as defined in 44 CFR 206.2(a)(27) that have an established disaster assistance program to address the disaster-related unmet needs of disaster victims, are actively involved in the recovery efforts of the disaster, and either have a national membership, in good standing, with the National Voluntary Organizations Active in Disaster, or are participating in the disaster's Long-Term Recovery Committee for the express purpose of reunifying families.

J. To Federal, state, local, tribal, territorial, international, or foreign agencies that coordinate with FEMA under the National Response Framework (an integrated plan explaining how the Federal government will interact with and support state, local, tribal, territorial, and non-governmental entities during a Presidentially-declared disaster or emergency) for the purpose of assisting with the investigation on the whereabouts of or locating missing persons.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by name, address, and phone number of the individual registering or searching in the National Emergency Family Registry and Locator System.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

In accordance with the FEMA Records Schedule (FRS) and NARA Disposition Authority number N1-311-09-1, records and reports related to and regarding registrations and searchers in NEFRLS performed by a displaced person, Call Center Operator on behalf of a displaced person, or family and friends will be cut off 60 days after the last edit to the record and destroyed/deleted three years after the cutoff. Additionally, in compliance with FRS and NARA Disposition Authority number N1-311-04-5, Item 3, records in this system associated with a domestic catastrophic event will have permanent value. A catastrophic event may be any natural or manmade incident, including terrorism, which results in extraordinary levels of mass casualties, damage, or disruption severely affecting the population, infrastructure, environment, economy, national morale, and/or government functions. A catastrophic event could result in sustained national impacts over a prolonged period of time; almost immediately exceeds resources normally available to state, local, tribal, territorial and private-sector authorities in the impacted area; and significantly interrupts governmental operations and emergency services to such an extent that national security could be threatened.

System Manager and address:

Deputy Director, Individual Assistance, Disaster Assistance Directorate, Federal Emergency Management Agency, 500 C Street, SW., Washington, DC 20472.

Notification procedure:

Individuals seeking notification of and access to any record contained in this system of records, or seeking to contest its content, may submit a request in writing to FEMA's FOIA Officer, 500 C Street, SW., Attn: FOIA Coordinator, Washington, DC 20472.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record source categories:

Records are obtained from registrants of NEFRLS and individuals searching NEFRLS, LEOs, and the third party authentication service indicating an individual has been approved or not approved.

Exemptions claimed for the system:

None.

Dated: July 25, 2011.
Mary Ellen Callahan,
Chief Privacy Officer, Department of Homeland Security.

[FR Doc. 2011-22167 Filed 8-29-11; 8:45 am]

BILLING CODE 9110-17-P